NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) 1173.

Date and Time: October 29, 2020; 1:00 p.m.-5:30 p.m.; October 30, 2020; 10:00 a.m.-3:30 p.m.

Place: National Science Foundation, 2415 Eisenhower Avenue, Alexandria, VA 22314 (Virtual).

Type of Meeting: Open.

Contact Person: Dr. Bernice Anderson, Senior Advisor and CEOSE Executive Secretary, Office of Integrative Activities (OIA); National Science Foundation, 2415 Eisenhower Avenue, Alexandria, VA 22314; Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: October 29, 2020

• Welcome, Introductions, Opening Remarks

• Report of the CEOSE Executive Liaison

• Joint Session with the BIO Advisory Committee

• NSF INCLUDES Update

• Discussion: 2019-2020 CEOSE Report and Plans for the Next Day

Day 2: October 30, 2020

• Welcome and Recap of Day 1

• Discussion: Women, Minorities, and Persons with Disabilities Digest

• Panel: NSB Vision 2030

• Reports of the CEOSE Liaisons

• Discussion with NSF Director and Chief Operating Officer

• NIH Presentation: Community Engagement-American Indian and Alaska Native (AI/AN) Communities

• Announcements, Closing Remarks, and Adjournment

Dated: September 8, 2020.
Crystal Robinson,
Committee Management Officer.

[FR Doc. 2020-20090 Filed 9-10-20; 8:45 am]

BILLING CODE 7555-01-P